FEDERAL COMMUNICATIONS COMMISSION

[Report No. 2722]

Petitions for Reconsideration of Action in Rulemaking Proceeding

July 18, 2005.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by August 11, 2005. See section 1.4(b)(1) of the Commission's rules (47 CFR 1.4(b)(1)). Replies to an opposition must be filed within 10 days after the time for filing oppositions have expired.

Subject: In the Matter of Wireless Operations in the 3650-3700 MHz Band (ET Docket 04-151); In the Matter of Rules for Wireless Broadband Services in the 3650-3700 MHz Band (WT Docket 05-96); In the Matter of Additional Spectrum for Unlicensed Devices below 900 MHz and in the 3 GHz Band (ET Docket 02-380); In the Matter of Amendment of the Commission's Rules with Regard to the 3650-3700 MHz Government Transfer Band (ET Docket 98-237).

Number of Petitions Filed: 8.

Marlene H. Dortch,
Secretary.

[FR Doc. 05-14838 Filed 7-26-05; 8:45 am]

BILLING CODE 6712-01-P